DEPARTMENT OF EDUCATION

Applications for New Awards; Transition to Teaching Grant Program

AGENCY: Office of Innovation and Improvement; Department of Education.

ACTION: Notice.

Overview Information

Transition to Teaching Grant Program

Notice inviting applications for new awards for fiscal year (FY) 2011.

Catalog of Federal Domestic Assistance (CFDA) Number: 84.350A, 84.350B, and 84.350C.

DATES:

Applications Available: March 30, 2011.

Deadline for Notice of Intent to Apply: April 29, 2011.

Date of Pre-Application Meeting: April 18, 2011.

Deadline for Transmittal of Applications: May 31, 2011.

Deadline for Intergovernmental Review: July 13, 2011.

Full Text of Announcement

I. Funding Opportunity Description

Purpose of Program: The Transition to Teaching program encourages (1) the development and expansion of alternative routes to full State teacher certification, as well as (2) the recruitment and retention of highly qualified mid-career professionals, recent college graduates, and highly qualified paraprofessionals as teachers in high-need schools operated by high-need local educational agencies (LEAs), including charter schools that operate as high-need LEAs.

Priorities: This notice contains two competitive preference priorities and one invitational priority that are explained in the following paragraphs.

Competitive Preference Priorities: Competitive Preference Priority 1 is from section 2313(c) of the Elementary and Secondary Education Act of 1965, as amended (ESEA) (20 U.S.C. 6683(c)). Competitive Preference Priority 2 is from the notice of final supplemental priorities and definitions for discretionary grant programs, published in the Federal Register on December 15, 2010 (75 FR 78486). For FY 2011 and any subsequent year in which we make awards from the list of unfunded applicants from this competition, these priorities are competitive preference priorities. Under 34 CFR 75.105(c)(2)(i), we award up to an additional three points to an application that meets Competitive Preference Priority 1. Furthermore, we award up to an additional four points to an application that meets Competitive Preference Priority 2. These points are in addition to any points the application earns under the selection criteria. Addressing these priorities is optional and applicants may choose to respond to one or both of the competitive priorities for this competition.

These priorities are:

Competitive Preference Priority 1—Partnerships or Consortia That Include a High-need LEA or High-need SEA.

This priority supports projects that are designated and implemented in active partnerships or consortia that include at least one high-need LEA or high-need SEA.

Competitive Preference Priority 2—Promoting Science, Technology, Engineering, and Mathematics (STEM) Education.

Projects that are designed to address one or both of the following priority areas:

(a) Increasing the opportunities for high-quality preparation of, or professional development for, teachers or other educators of STEM subjects.

(b) Increasing the number of individuals from groups traditionally underrepresented in STEM, including minorities, individuals with disabilities, and women, who are teachers or educators of STEM subjects and have increased opportunities for high-quality preparation or professional development.

Invitational Priority: Under this competition, the Department is particularly interested in applications that address the following priority. For FY 2011 and any subsequent year in which we make awards based on the list of unfunded applicants from this competition, this priority is an invitational priority. Under 34 CFR 75.105(c)(1) we do not give an application that meets this invitational priority a competitive or absolute preference over other applications.

This priority is:

Projects that develop and implement, enhance, or expand innovative projects that address teacher staffing needs in high-need schools in rural high-need LEAs, and in high-need schools in high-need LEAs that serve American Native or Alaska Native communities. Under this priority, eligible applicants are encouraged to submit applications under this program that reflect their efforts to—

(1) Identify the teacher staffing needs of high-need schools in rural high-need LEAs, or in high-need schools in high-need LEAs that serve American Native or Alaska Native communities, or both;

(2) Provide strategies for selecting, recruiting, and retaining talented individuals who are eligible participants under this program to teach in the target area;

(3) Develop a curriculum for teacher preparation that prepares recruited teachers to become certified to teach a high-need subject identified for the target area, and if the project would be in high-need LEAs that serve American Native or Alaska Native communities, is culturally relevant to the community; and

(4) Provide a comprehensive support system for teachers once they are placed in high-need schools in rural high-need LEAs, or in high-need schools in high-need LEAs that serve American Native or Alaska Native communities, that will focus on retaining the teachers for at least three years.

Background: On November 5, 2009, President Obama signed a memorandum requiring Federal agencies to conduct consultations with Tribal officials when developing policies that have implications for Tribal communities. In response to the President's memorandum, the Department conducted six consultations with Tribal officials during FY 2010. During these consultations, the Department received numerous comments regarding teacher recruitment and retention. Specifically, these comments described difficulties that LEAs located on or near Tribally controlled lands—which typically operate high-need schools—face in attracting and retaining highly qualified teachers due to their remote location and lack of funding.

Rural school districts face similar difficulties in recruiting and retaining a qualified teacher workforce. According to the U.S. Department of Education, Institute of Education Sciences, nearly one-quarter of American students attend a school in a rural area, and almost half of the Nation's school districts are located in rural communities. Research indicates that some potential factors in recruiting and retaining teachers include collegial isolation, low salaries, multiple grade or subject teaching assignments, and lack of familiarity with rural schools and communities. Together, these challenges can discourage teachers from accepting rural positions or cause them to leave rural settings after teaching there for only a short time. (Barley, Z. A., and Brigham, N. (2008). Preparing teachers to teach in rural schools (Issues & Answers Report, REL 2008-No.045). Washington, DC: U.S. Department of Education, Institute of Education Sciences, National Center for Education Evaluation and Regional Assistance, Regional Educational Laboratory Central. Retrieved from http://ies.ed.gov/ncee/edlabs.

In response to the unique challenges that rural communities, and communities that serve American Native and Alaska Native students face, the Department establishes this invitational priority to encourage applicants to propose projects that will meet the specific teaching needs of these communities.

Program Authority: 20 U.S.C. 6681-6684.

Applicable Regulations: (a) The Education Department General Administrative Regulations (EDGAR) in 34 CFR parts 74, 75, 77, 79, 80, 81, 82, 84, 85, 86, 97, 98, and 99. (b) The notice of final priorities and requirements for this program published in the Federal Register on April 30, 2004 (69 FR 24002). (c) The notice of final supplemental priorities and definitions for discretionary grant programs, published in the Federal Register on December 15, 2010 (75 FR 78486).

Note: The regulations in 34 CFR part 79 apply to all applicants except Federally recognized Indian Tribes.

Note: The regulations in 34 CFR part 86 apply to institutions of higher education (IHEs) only.

II. Award Information

Type of Award: Discretionary grants.

Estimated Available Funds: The Administration's FY 2011 budget request included no funding for the Transition to Teaching program. In place of several, sometimes narrowly targeted programs that serve current and prospective teachers and school leaders, the Administration has proposed to create a broader Excellent Instructional Teams initiative through the reauthorization of the Elementary and Secondary Education Act of 1965. Strengthening teacher preparation--including through high-quality alternative routes to certification or licensure--will be a key component of this initiative.

We estimate that $12.6 million will be available for this competition. The actual level of funding, if any, depends on final congressional action.

The Department has established separate funding categories for projects of different scope. These categories are:

(1) Local projects (CFDA 84.350A) that serve one or more eligible high-need LEAs in a single area of a State;

(2) Statewide projects (CFDA 84.350B) that serve eligible high-need LEAs statewide or eligible high-need LEAs in more than one area of a State; and

(3) National/regional projects (CFDA 84.350C) that serve eligible high-need LEAs in more than one State.

Contingent upon the availability of funds and the quality of applications, we may make additional awards in FY 2012 from the list of unfunded applicants from this competition.

Estimated Range of Awards: National/regional projects—$450,000-$750,000 per year; Statewide projects—$300,000-$650,000 per year; and Local projects—$150,000-$450,000 per year.

Estimated Average Size of Awards: National/regional projects—$600,000 per year; Statewide projects—$475,000 per year; and Local projects—$300,000 per year.

Estimated Number of Awards: National/regional projects—1-3; Statewide projects—3-5; and Local projects—5-16.

Note: The Department is not bound by any estimates in this notice.

Project Period: Up to 60 months. We anticipate that initial awards under this competition will be made for a three-year (36 month) period. Contingent upon the availability of funds and each grantee's substantial progress towards accomplishing the goals and objectives of the project as described in its approved application, we may make continuation awards to grantees for the remaining 24 months of the program. Review of each grantee's progress may include consideration of evidence of promising practices and a strong evaluation design.

III. Eligibility Information

1. Eligible Applicants: A State educational agency (SEA); a high-need LEA; a for-profit or nonprofit organization that has a proven record of effectively recruiting and retaining highly qualified teachers, in partnership with a high-need LEA or an SEA; an IHE in partnership with a high-need LEA or an SEA; a regional consortium of SEAs; or a consortium of high-need LEAs.

Each application must identify participating LEAs that meet the definition of “high-need LEA” in section 2102(3) of the Elementary and Secondary Education Act of 1965, as amended (20 U.S.C. 6301 et seq.).

Note: Section 2102(3) of the ESEA defines a high-need LEA as an LEA—

(a) That serves not fewer than 10,000 children from families with incomes below the poverty line (as that term is defined in section 9101(33) of the ESEA), or for which not less than 20 percent of the children served by the LEA are from families with incomes below the poverty line; and

(b) For which there is (1) a high percentage of teachers not teaching in the academic subjects or grade levels that the teachers were trained to teach, or (2) a high percentage of teachers with emergency, provisional, or temporary certification or licensing.

The notice of final priorities and requirements (NFP) published in the Federal Register on April 30, 2004 (69 FR 24002) describes how applicants must demonstrate that a participating LEA meets the statutory definition of a “high-need LEA” (69 FR 24002, 24006). Additionally, as described in the NFP, a high-need SEA is defined as a SEA of a State that includes at least one high-need LEA (69 FR 24006). Pursuant to the NFP, we provide the following supplementary information regarding the data an applicant uses to demonstrate eligibility as a “high-need LEA” under this competition:

As described in the NFP, absent a showing of alternative LEA data that reliably show the number of children from families with incomes below the poverty line that are served by the LEA, the eligibility of an LEA as a “high-need LEA” under component (a) of the definition must be determined on the basis of the most recent U.S. Census Bureau data. The most recent U.S. Census Bureau data for 2009 can be found in the charts on the Internet at: http://www.census.gov/hhes/www/saipe/district.html. The Department examines the eligibility of any LEA not listed on these charts on a case-by-case basis.

As discussed in the NFP, with respect to component (b)(1) of the definition of “high-need LEA,” whether an LEA has a “high percentage of teachers not teaching in the academic subjects or grade levels that the teachers were trained to teach” is determined on a case-by-case basis.

In addition, as discussed in the NFP, with respect to component (b)(2) of the definition of “high-need LEA,” an LEA has a “high percentage” of teachers with emergency, provisional, or temporary certification or licensing if the percentage of teachers on waivers, as the LEA reported to the State for purposes of the State's latest report to the Secretary under section 207 of the Higher Education Act of 1965, as amended by the Higher Education Amendments of 1998 (HEA), was higher than the national average percentage of teachers on waivers of State certification for all LEAs. As discussed in the April 30, 2004 NFP, the Secretary determines the national average percentage of teachers on waivers based on data contained in the most currently available HEA section 207 State reports. At the time of publication of this notice, the latest and last waiver data collected are from 2007-2008 State reports, which are not yet published in a final report. These waiver data from the State 2007-2008 reports reveal a national average percentage of teachers on waivers of State certification for all LEAs of 1.36 percent. Thus, for purposes of component (b)(2) of the definition of “high-need LEA,” an LEA has a “high percentage” of teachers with emergency, provisional, or temporary certification of licensing if the percentage of teachers on waivers, as the LEA reported to the State for purpose of the State's latest report to the Secretary under section 207 of the HEA is greater than 1.36 percent. The eligibility of LEAs not required to report these data, such as newly formed LEAs or BIE-funded schools, would be determined on a case-by-case basis based on the best available data the applicant includes with its application.

2. a. Cost Sharing or Matching: This program does not require cost sharing or matching.

b. Supplement-Not-Supplant: This program includes supplement-not-supplant funding requirements. In accordance with section 2313(h)(2) of the ESEA, funds made available under this program must be used to supplement, and not supplant, State and local public funds expended for teacher recruitment and retention programs, including programs to recruit teachers through alternative routes to certification.

IV. Application and Submission Information

1. Address to Request Application Package: Beatriz Ceja, U.S. Department of Education, 400 Maryland Avenue, SW., room 4C111, Washington, DC 20202-5960 or by e-mail: transitiontoteaching@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this competition.

Notice of Intent to Apply: April 29, 2011. The Department will be able to develop a more efficient process for reviewing grant applications if it has a better understanding of the number of entities that intend to apply for funding under this competition. Therefore, the Secretary strongly encourages each potential applicant to notify the Department by sending a short e-mail message indicating the applicant's intent to submit an application for funding. The e-mail need not include information regarding the content of the proposed application, only the applicant's intent to submit it. The Secretary requests that this e-mail notification be sent to Beatriz Ceja at: TTTintent@ed.gov.

Applicants that fail to provide this e-mail notification may still apply for funding.

Page Limit: The application narrative (Part III of the application) is where you, the applicant, address the selection criteria that reviewers use to evaluate your application. We suggest you limit the application narrative Part III to the equivalent of no more than 50 pages, using the following standards:

• A “page” is 8.5″ x 11″, on one side only, with 1″ margins at the top, bottom, and both sides.

• Double space (no more than three lines per vertical inch) all text in the application narrative, except for titles, headings, footnotes, quotations, references, captions, charts, tables, figures, and graphs.

• Use a font that is either 12 point or larger or no smaller than 10 pitch (characters per inch).

• Use one of the following fonts: Times New Roman, Courier, Courier New, or Arial.

The page limit does not apply to Part I, the cover sheet; Part II, the budget section, including the narrative budget justification; Part IV, the assurances and certifications; or the one-page abstract, the resumes, or letters of support.

3. Submission Dates and Times:

Applications Available: March 30, 2011.

Deadline for Notice of Intent to Apply: April 29, 2011.

Date of Pre-Application Meeting: April 18, 2011, from 2:30 p.m. to 4:30 p.m. in the LBJ Auditorium at the U.S. Department of Education headquarters, 400 Maryland Avenue, SW., Washington, DC. The Department is accessible by Metro on the Blue, Orange, Green, and Yellow lines at the 7th Street and Maryland Avenue exit of the L'Enfant Plaza Metro station. Please contact the U.S. Department of Education contact persons listed under FOR FURTHER INFORMATION CONTACT if you have any questions about the details of the pre-application meeting.

Individuals interested in attending this pre-application meeting are encouraged to pre-register by e-mailing their name, organization, and contact information to transitiontoteaching@ed.gov. There is no registration fee for this pre-application meeting. We encourage attendance from those who will be responsible for submitting the application or otherwise providing technical support for submitting the application electronically using the Department's Grants.gov Apply site (Grants.gov).

Assistance to Individuals With Disabilities at the Pre-Application Meeting

The meeting site is accessible to individuals with disabilities, and a sign language interpreter will be available. If you will need an auxiliary aid or service other than a sign language interpreter in order to participate in the meeting (e.g., other interpreting service such as oral, cued speech, or tactile interpreter; assistive listening device; or materials in alternate format), notify the contact person listed in this notice at least two weeks before the scheduled meeting date. Although we will attempt to meet a request we receive after this date, we may not be able to make available the requested auxiliary aid or service because of insufficient time to arrange it.

Deadline for Transmittal of Applications: May 31, 2011.

Applications for grants under this competition must be submitted electronically using the Grant.gov Apply site (Grants.gov). For information (including dates and times) about how to submit your application electronically, or in paper format by mail or hand delivery if you qualify for an exception to the electronic submission requirement, please refer to section IV. 7. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: July 13, 2011.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section in this notice and in the April 30, 2004 NFP.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this program must be submitted electronically unless you qualify for an exception to this requirement in accordance with the instructions in this section.

a. Electronic Submission of Applications.Applications for grants under the Transition to Teaching program, CFDA number 84.350A, 84.350B, and 84.350C must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for Transition to Teaching program at http://www.Grants.gov. You must search for the downloadable application package for this program by the CFDA number. Do not include the CFDA number's alpha suffix in your search (e.g., search for 84.350, not 84.350A).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not accept your application if it is received—that is, date and time stamped by the Grants.gov system—after 4:30 p.m., Washington, DC time, on the application deadline date. We do not consider an application that does not comply with the deadline requirements. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must attach any narrative sections of your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Beatriz Ceja, U.S. Department of Education, 400 Maryland Avenue, SW., room 4C111, Washington, DC 20202-5960. FAX: (202) 401-8466.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address:

U.S. Department of Education, Application Control Center, Attention: (CFDA Number 84.350A; 84.350B; 84.350C), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address:

U.S. Department of Education, Application Control Center, Attention: (CFDA Number 84.350A; 84.350B; 84.350C), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from section 34 CFR 75.210 of EDGAR (34 CFR 75.210). The maximum score for all the selection criteria is 100 points. The maximum score for each criterion is indicated in parentheses. In addressing each criterion, applicants are encouraged to make explicit connections to relevant aspects of responses to other selection criteria.

The notes we have included after each criterion are guidance to assist applicants in understanding the criterion as they prepare their applications and are not required by statute or regulation.

A. Quality of the Project Design (40 points). The Secretary considers the quality of the project design for the proposed project. In determining the quality of the design of the proposed project, the Secretary considers the following factors:

(1) The extent to which the goals, objectives, and outcomes to be achieved by the proposed project are clearly specified and measurable.

(2) The extent to which the design for implementing and evaluating the proposed project will result in information to guide possible replication of project activities or strategies, including information about the effectiveness of the approach or strategies employed by the project.

(3) The extent to which the proposed activities constitute a coherent, sustained program of training in the field.

(4) The extent to which the proposed project is designed to build capacity and yield results that will extend beyond the period of Federal financial assistance.

(5) The extent to which the program project is part of a comprehensive effort to improve teaching and learning and support rigorous academic standards for students.

Note: The Secretary encourages applicants to address this criterion by discussing the overall project design and its key components, and the degree to which the design's key components are based on sound research and practice. Applicants are also encouraged to address this criterion by connecting the project design to the needs of the partner districts and identifying the specific teacher-shortage areas faced by the participating high-need LEAs on which their proposed project would focus. Applicants should understand that a project's strategy for helping participating high-need LEAs to identify and hire highly qualified individuals to fill teaching positions in high-need subjects may rely on existing alternative routes to certification, the expansion of alternative routes to certification into new areas, or the creation of wholly new alternative routes.

Additionally, applicants are encouraged to address such key components of project design related to the Transition to Teaching program as:

(1) Recruitment and selection, including by identifying the target group(s) on which the program will focus and why and how the project is designed to rigorously select participants with the requisite content knowledge, skills, and commitment to teach in high-need schools in high-need LEAs.

(2) Preparation, including how the project will provide a route to certification that is accelerated, integrates coursework and field experience, is adapted to participants' learning needs, and will yield effective teachers who are well prepared to teach in high-need schools in high-need LEAs.

(3) Teacher placement, including evidence that the proposed project will meet the needs of high-need LEAs, is being developed in coordination with appropriate partners, and will include a system of tracking to meet statutory requirements.

(4) Support services, including mentoring, that are designed to retain participants and meet their needs in terms of length, content, and means of delivery in order to be successful in high-need schools in high-need LEAs.

(5) Teacher certification, including consideration of how the timeline for achieving certification will meet the needs of participants, LEAs, and partners, as well as the “Highly Qualified Teacher” requirements established in section 9101(23) of the ESEA and 34 CFR 200.56.

In addition, applicants are encouraged to clarify the means by which the project's specified outcomes and benefits may be sustained once Federal funding has ended.

B. Quality of the Project Evaluation (20 points). The Secretary considers the quality of the evaluation to be conducted by the proposed project. In determining the quality of the evaluation to be conducted, the Secretary considers the following factors:

(1) The extent to which the methods of evaluation include the use of objective performance measures that are clearly related to the intended outcomes of the project and will produce quantitative and qualitative data to the extent possible.

(2) The extent to which the methods of evaluation will provide performance feedback and permit periodic assessment of progress toward achieving intended outcomes.

Note: The Secretary encourages applicants to address this criterion by including benchmarks to monitor progress toward specific and measurable program and project objectives, as well as performance measures to assess the impact on teaching and learning or other important outcomes for project participants. Applicants are also encouraged to consider the use of a logic model in determining intended short-term, intermediate, and long-term outcomes. (The specific performance measures the Department established for the overall Transition to Teaching program are discussed under Performance Measures in section VI of this notice.)

Moreover, with respect to the implementation of the project and monitoring progress toward achieving project objectives, applicants are encouraged to describe the following: (1) What types of data will be collected; (2) when various types of data will be collected; (3) what methods will be used; (4) what instruments will be developed and when; (5) how the data will be analyzed; (6) when reports of results and outcomes will be available; and (7) how the applicant will use the information collected through the evaluation to monitor progress and improve implementation of the funded project and to provide accountability information about project success. Additionally, applicants are encouraged to design an evaluation that provides data for annual as well as midpoint and final reporting. Applicants also are encouraged to devote an appropriate level of resources to project evaluation.

Finally, section 2314 of the ESEA also requires grantees to submit both an interim evaluation of the first three years of the grant and a final evaluation at the end of the grant. The Secretary encourages applicants to consider this reporting requirement when addressing the Quality of the Project Evaluation.

C. Quality of Project Services (20 points).

In determining the quality of the services to be provided by the proposed project, the Secretary considers the following factors:

(1) The quality and sufficiency of strategies for ensuring equal access and treatment for eligible project participants who are members of groups that have traditionally been underrepresented based on race, color, national origin, gender, age, or disability.

(2) The extent to which the services to be provided by the proposed project are appropriate to the needs of the intended recipients or beneficiaries of those services.

(3) The extent to which the training or professional development services to be provided by the proposed project are of sufficient quality, intensity, and duration to lead to improvements in practice among the recipients of those services.

(4) The extent to which the training or professional development services to be provided by the proposed project are likely to alleviate the personnel shortages that have been identified or are the focus of the proposed project.

(5) The extent to which the services to be provided by the proposed project involve the collaboration of appropriate partners for maximizing the effectiveness of project services.

Note: The Secretary encourages applicants to address this criterion by discussing how the proposed project services will meet the needs of both the high-need LEAs identified in the application and the project participants they would recruit to become teachers. In describing the specific services to be delivered to recruit, prepare, and retain participants that will increase the number of highly qualified teachers in high-need schools in high-need LEAs, applicants are encouraged to consult the program statute for allowable uses of Transition to Teaching program funds (section 2313(g) of the ESEA). Applicants are also encouraged to describe how the proposed project will:

(1) Provide preparation that meets the learning needs of the participants and makes use of appropriate media (such as through face-to-face instruction, Web-based instruction, and distance learning) in order to provide them with the knowledge and skills needed to be highly qualified and effective teachers in the identified high-need subject areas and high-need schools in high-need LEAs.

(2) Support project participants' success in high-need schools in high-need LEAs during the period of their service obligation, through individual mentoring, support of participants as a group, use of technology, or other appropriate means.

(3) Encourage the participation of all project partners, including school leaders, in providing services related to the recruitment, preparation, and retention of project participants and ensuring lasting benefits or outcomes. Applicants are encouraged to clarify the roles of partners in each phase of the project and the extent of coordination that will occur with similar efforts at the State and district levels. In addition, applicants are encouraged to consider how they might demonstrate (e.g., through narrative discussion, letters of support, or formal memoranda of understanding) the commitment of partners to the project and the partners' understanding of responsibilities they have agreed to assume in service delivery.

Applicants are encouraged to link their description of project services to be provided by the project to the overall project design described in the Quality of Project Design criterion.

D. Quality of the Management Plan (20 points). The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The adequacy of procedures for ensuring feedback and continuous improvement in the operation of the proposed project.

(3) The extent to which the time commitments of the project director and principal investigator and other key project personnel are appropriate and adequate to meet the objectives of the proposed project.

Note: Section 75.112 of EDGAR (34 CFR 75.112) requires an applicant for a multi-year grant to include a narrative that describes how and when, in each budget period of the project, the applicant plans to meet each project objective. The Secretary encourages applicants to address this criterion by including in this narrative a clear, well-thought-out implementation plan that includes annual timelines, key project milestones, and a schedule of activities with sufficient time for developing an adequate implementation plan, as well as specific timelines for providing project participants the direct support they need in their initial year(s) as teachers.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Factors: Section 2313(f) of the ESEA provides that to the extent practicable, the Secretary shall ensure an equitable geographic distribution of grants under this program among the regions of the United States. Accordingly, the Secretary may take geographic distribution of awards into account in making grant awards under this competition.

4. Special Conditions: Under 34 CFR 74.14 and 80.12, the Secretary may impose special conditions on a grant if the applicant or grantee is not financially stable, has a history of unsatisfactory performance, has a financial or other management system that does not meet the standards in 34 CFR parts 74 or 80, as applicable, has not fulfilled the conditions of a prior grant, or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Secretary has established three performance measures to track the performance of this program. We will gather the data for these measures from each grantee. Therefore, when responding to the selection criteria grantees should address the following measures in the appropriate section.

Measure One: The percentage of all Transition to Teaching participants who become teachers of record in high-need schools in high-need LEAs. For this measure we will collect data on the number of participants and the number of teachers of record in high-need schools in high-need LEAs.

Measure Two: The percentage of Transition to Teaching participants who, within three years, receive the same State certification or licensure as teachers not participating in the alternative route program. For this measure, we will collect data on the number of participants who meet this measure.

Measure Three: The percentage of Transition to Teaching teachers of record who teach in high-need schools in high-need LEAs for three years. For this measure, we will collect data on the number of participants who become teachers of record who have been teaching in high-need schools in high-need LEAs for at least three years.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contacts

FOR FURTHER INFORMATION CONTACT: Patricia Barrett, Beatriz Ceja, or Salimah Shabazz, U.S. Department of Education, 400 Maryland Avenue, SW., room 4C111, Washington, DC 20202-5960. Telephone: (202) 260-7350 (Patricia Barrett), (202) 205-5009 (Beatriz Ceja), or (202) 260-2434 (Salimah Shabazz), or by e-mail: transitiontoteaching@ed.gov.

If you use a telecommunications device for the deaf (TDD), call the Federal Relay Service (FRS), toll free, at 1-800-877-8339.

VIII. Other Information

Accessible Format: Individuals with disabilities can obtain this document and a copy of the application package in an accessible format (e.g., braille, large print, audiotape, or computer diskette) on request to the program contact persons listed under FOR FURTHER INFORMATION CONTACT in section VII in this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is now available via the Federal Digital System at http://www.gpo.gov/fdsys.

Dated: March 25, 2011.
James H. Shelton, III,
Assistant Deputy Secretary for Innovation and Improvement.

[FR Doc. 2011-7483 Filed 3-29-11; 8:45 am]

BILLING CODE 4000-01-P